DEPARTMENT OF JUSTICE

Notice of Extension of Period for Public Comments Regarding Settlement Agreement

Notice is hereby given that the period in which the Department of Justice will receive public comments regarding the Settlement Agreement lodged in the case of American International Specialty Lines Insurance Company, Inc. v. NWI-I, Inc., et al., Civil Action No. 05-6386 (N.D. Ill.), is extended through and including April 1, 2008. The lodging of this Settlement Agreement was previously announced, and a 30-day comment period commenced, by publication in the Federal Register on January 17, 2008.

Through and including April 1, 2008, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, the comments should refer to AISLIC v. NWI-I, Inc., D.J. Ref. No. 90-11-2-07096/1.

The proposed settlement agreement may be examined at the Office of the United States Attorney, Northern District of Illinois, Eastern Division, 219 S. Dearborn St., 5th Floor, Chicago, IL 60604, and at the Environmental Protection Agency's Region 5 office, 77 W. Jackson Blvd., Chicago, IL 60604. During the public comment period, the proposed consent decree may also be examined on the following Department of Justice Web site: http://www.usdoj.gov/enrd/Consent_Decrees.html. A copy of the proposed consent decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $33.00 (or $6.00 for a copy that omits the exhibits and signature pages) (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-3610 Filed 2-25-08; 8:45 am]

BILLING CODE 4410-15-P